NATIONAL AERONAUTICS AND SPACE ADMINISTRATION

[Notice: (20-072)]

NASA Advisory Council; STEM Engagement Committee; Meeting

AGENCY: National Aeronautics and Space Administration.

ACTION: Notice of meeting.

SUMMARY: In accordance with the Federal Advisory Committee Act, Public Law 92-463, as amended, the National Aeronautics and Space Administration announces a meeting of the Science, Technology, Engineering and Mathematics (STEM) Engagement Committee of the NASA Advisory Council (NAC). This Committee reports to the NAC.

DATES: Thursday, October 1, 2020, 11:00 a.m.-4:00 p.m., Eastern Time.

ADDRESSES: Virtual meeting by dial-in teleconference and WebEx only.

FOR FURTHER INFORMATION CONTACT: Dr. Beverly Girten, Designated Federal Officer, NAC STEM Engagement Committee, NASA Headquarters, Washington, DC 20546, (202) 358-0212, or beverly.e.girten@nasa.gov.

SUPPLEMENTARY INFORMATION: This meeting will be held virtually and will be available telephonically and by WebEx only. You must use a touch tone phone to participate in this meeting. Any interested person may dial the toll free access number 844-467-6272 or toll access number 720-259-6462, and then the numeric participant passcode: 423307 followed by the # sign. NOTE: If dialing in, please “mute” your telephone. To join via WebEx, use link: https://nasaenterprise.webex.com/nasaenterprise/onstage/g.php?MTID=e61bb5ede39ff001b74ffe7c0113072ca. The meeting number is 199 338 2435 and the password is 3pgDmf7PS@7 (password is case sensitive). The agenda for the meeting will include the following:

—Opening Remarks by Chair

—STEM Engagement Update

—NASA Minority University Research and Education Project

—Diversity and Performance and Evaluation Update

—Findings and Recommendations to the NASA Advisory Council

—Other Related Topics

It is imperative that the meeting be held on this date to accommodate the scheduling priorities of the key participants.

Patricia Rausch,
Advisory Committee Management Officer, National Aeronautics and Space Administration.

[FR Doc. 2020-20230 Filed 9-14-20; 8:45 am]

BILLING CODE 7510-13-P